DEPARTMENT OF DEFENSE

Office of the Secretary

Privacy Act of 1974; System of Records

AGENCY: Office of the Secretary, DoD.

ACTION: Correction.

SUMMARY: The Office of the Secretary, DoD, is proposing to change the system identifiers of two previously published Privacy Act systems of records notices. The changes were published, but never incorporated into the notice.

The Department of the Army notice A0340 JDMSS, entitled ‘HQDA Correspondence and Control/Central Files System’ published on February 8, 2000, at 66 FR 6178, will now be known as ‘A0025 JDIM’, same title.

The Defense Logistics Agency notice S200.30 DLA-M, entitled ‘Reserve Affairs’, published on February 1, 2000, at 66 FR 4811, will now be known as ‘S200.30 CAI’, same title.

EFFECTIVE DATE: February 24, 2000.

FOR FURTHER INFORMATION CONTACT: Ms. Jody Sinkler at (703) 607-2943.

SUPPLEMENTARY INFORMATION: The Office of the Secretary, DoD, is proposing to change the system identifiers of two previously published Privacy Act systems of records notices.

The Department of the Army notice A0340 JDMSS, entitled ‘HQDA Correspondence and Control/Central Files System’ published on February 8, 2000, at 66 FR 6178, will now be known as ‘A0025 JDIM’, same title.

The Defense Logistics Agency notice S200.30 DLA-M, entitled ‘Reserve Affairs’, published on February 1, 2000, at 66 FR 4811, will now be known as ‘S200.30 CAI’, same title.

The specific changes to the records system being amended are set forth above. The proposed amendments are not within the purview of subsection (r) of the Privacy Act of 1974, (5 U.S.C. 552a), as amended, which requires the submission of a new or altered system report.

Dated: February 16, 2000.
L.M. Bynum,
Alternate OSD Federal Register Liaison Officer, Department of Defense.

[FR Doc. 00-4291 Filed 2-23-00; 8:45 am]

BILLING CODE 5001-10-F